NUCLEAR WASTE TECHNICAL REVIEW BOARD

Notice of Meeting

Board meeting: September 23, 2009-National Harbor, MD; the U.S. Nuclear Waste Technical Review Board will meet to discuss the implications of fuel-cycle technologies for nuclear waste management and disposal.

Pursuant to its authority under section 5051 of Public Law 100-203, Nuclear Waste Policy Amendments Act of 1987, the U.S. Nuclear Waste Technical Review Board will meet at National Harbor, Maryland, on Wednesday, September 23, 2009, to discuss the implications of alternative technological strategies for the management and disposal of spent nuclear fuel and high-level radioactive waste. The Board will receive an update on the Fuel Cycle Study being conducted at the Massachusetts Institute of Technology, and a panel of industry representatives will discuss their proposals to the U.S. Department of Energy (DOE) for recycling, reprocessing, and burning spent nuclear fuel in fast reactors. The Board also has invited a representative of the Nuclear Energy Agency to present an overview of efforts in other countries to manage and dispose of nuclear waste.

Information presented at the meeting will be used by the Board as part of its ongoing effort to inform Congress, the Secretary of Energy, and a blue-ribbon commission of technical issues and questions that should be addressed related to waste-management alternatives. The Nuclear Waste Policy Amendments Act of 1987 requires the Board to conduct an independent review of the technical and scientific validity of DOE activities related to nuclear waste management, including transporting, packaging, and disposing of spent nuclear fuel and high-level radioactive waste.

The Board meeting will be held at the Gaylord Hotel; 201 Waterfront Street; National Harbor, MD 20745; (tel.) 301-965-2000, (fax) 301-965-2039.

A detailed meeting agenda will be available on the Board's Web site, http://www.nwtrb.gov, approximately one week before the meeting. The agenda also may be obtained by telephone request at that time. The meeting will be open to the public, and opportunities for public comment will be provided.

The meeting will begin at 8 a.m. on Wednesday morning. Time has been set aside at the end of the day for public comments. Those wanting to speak are encouraged to sign the “Public Comment Register” at the check-in table. A time limit may have to be set on individual remarks, but written comments of any length may be submitted for the record.

Transcripts of the meeting will be available on the Board's Web site, by e-mail, on computer disk, and on library-loan in paper format from Davonya Barnes of the Board's staff no later than October 19, 2009.

A block of rooms has been reserved for meeting attendees at the Gaylord Hotel. When making a reservation, please ask for the Nuclear Waste Technical Review Board rate, Group Code: NWTRB. Reservations should be made by September 1, 2009, to ensure receiving the meeting rate. To make reservations, call 301-965-4000 or go to the online link: https://reservations.gaylordnational.gaylordhotels.comlcgi-bin/lansaweb?procfun+rn+resnet+NAT+funcparms+UP(A2560):;x-nclr9;?.

Transportation options can be found on the hotel's Web site.

For information on the meeting, contact Daniel Metlay; for information on lodging or logistics, contact Linda Coultry; 2300 Clarendon Boulevard, Suite 1300; Arlington, VA 22201-3367; (tel) 703-235-4473; (fax) 703-235-4495.

Dated: August 6, 2009.
Karyn D. Severson,
Acting Executive Director, U.S. Nuclear Waste Technical Review Board.

[FR Doc. E9-19150 Filed 8-11-09; 8:45 am]

BILLING CODE 6820-AM-M